Title 3—

The President

Memorandum of July 2, 2004

Delegation of Certain Reporting Authority

Memorandum for the Secretary of State

By the authority vested in me as President by the Constitution and laws of the United States, including section 301 of title 3, United States Code, I hereby delegate to you the functions and authority conferred upon the President by section 4 of the Authorization for Use of Military Force Against Iraq Resolution of 2002, Public Law 107-243, and by section 3 of the Authorization for Use of Military Force Against Iraq Resolution, Public Law 102-1, to make the specified reports to the Congress.

You are authorized and directed to publish this memorandum in the Federal Register.

B

THE WHITE HOUSE,

Washington, July 2, 2004.

[FR Doc. 04-16755

Filed 7-20-04; 8:45 am]

Billing code 4710-10-P